DEPARTMENT OF COMMERCE

Foreign-Trade Zones Board

[B-47-2019]

Foreign-Trade Zone (FTZ) 201—Holyoke, Massachusetts; Authorization of Production Activity; ProAmpac Holdings, Inc. (Flexible Packaging Applications); Westfield, Massachusetts

On July 25, 2019, The Holyoke Economic Development and Industrial Corporation, grantee of FTZ 201, submitted a notification of proposed production activity to the FTZ Board on behalf of ProAmpac Holdings, Inc., within FTZ 201, in Westfield, Massachusetts.

The notification was processed in accordance with the regulations of the FTZ Board (15 CFR part 400), including notice in the Federal Register inviting public comment (84 FR 37831, August 2, 2019). On November 22, 2019, the applicant was notified of the FTZ Board's decision that no further review of the activity is warranted at this time. The production activity described in the notification was authorized, subject to the FTZ Act and the FTZ Board's regulations, including Section 400.14.

Dated: November 22, 2019.
Elizabeth Whiteman,
Acting Executive Secretary.

[FR Doc. 2019-25771 Filed 11-26-19; 8:45 am]

BILLING CODE 3510-DS-P